DEPARTMENT OF DEFENSE

Department of the Army

Proposed Collection; Comment Request

AGENCY: Deputy Chief of Staff for Personnel (DAPE-ZXI-RM), U.S. Army, DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATE: Consideration will be given to all comments received by May 15, 2000.

ADDRESSES: Written comments and recommendations on the proposed information collection should be sent to U.S. Army Corps of Engineers Waterborne Commerce Statistics Center, P.O. Box 61280, New Orleans, LA 70161 ATTN: CEWRC-NDC-C (J. Alexander Wieriman). Consideration will be given to all comments received within 60 days of the date of publication of this notice.

FOR FURTHER INFORMATION CONTACT: To request more information on this proposed information collection or to obtain a copy of the proposal and associated collection instruments, please write to the above address, or call Department of the Army Reports clearance officer at (703) 614-0454.

Title, Associated Form, and OMB Number: Record of Arrivals and Departures of Vessels at Marine Terminals, ENG Form 3926, OMB Number 0710-0005.

Needs and Uses: The Corps of Engineers uses ENG Form 3926, as a quality control instrument by comparing the data collected on the Corps' Vessel Operation Report (OMB Control Number 0710-0006) with that collected on the ENG Form 3926. The information is voluntarily submitted by the respondents to assist the Waterborne commerce Statistics Center (WCSC) in the identification of vessel operators who fail to report significant vessel moves and tonnage.

Affected Public: Business or other for profit.

Annual Burden Hours: 2,500.

Number of Respondents: 450.

Responses Per Respondent: 12.

Average Burden Per Response: 5 minutes.

Frequency: Voluntary.

SUPPLEMENTARY INFORMATION: The information is invaluable in documenting the movement of petroleum products out of Valdez, Alaska. Without the information furnished on the ENG Form 3926 at least 50,000,000 tons of petroleum products would got unreported each year. This situation exists because there are many vessel operating companies moving crude petroleum from Valdez to points south.

Gregory D. Showalter,
Army Federal Register Liaison Officer.

[FR Doc. 00-6343 Filed 3-14-00; 8:45 am]

BILLING CODE 3710-08-M